FEDERAL COMMUNICATIONS COMMISSION

[OMB 3060-0912; FR ID 320050]

Information Collection Being Reviewed by the Federal Communications Commission Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before February 2, 2026. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0912.

Title: Sections 76.501, 76.503 and 76.504, Cable Attribution Rules.

Form Number: N/A.

Type of Review: Extension of a currently approved collection.

Respondents: Business and other for-profit entities.

Number of Respondents and Responses: 40 respondents; 40 responses.

Estimated Time per Response: 1 to 4 hours.

Obligation to Respond: On occasion reporting requirement.

Total Annual Burden: 100 hours.

Total Annual Costs: No costs.

Obligation To Respond: Required to obtain or retain benefits. The statutory authority for this collection is contained in Sections 4(i) and 613(f) of the Communications Act of 1934, as amended.

Needs and Uses: 47 CFR 76.501 Notes 2(f)(1) and 2(f)(3); 47 CFR 76.503 Note 2(b)(3); 47 CFR 76.504 Note 1(b)(1) requires parties with limited partnership interests, parties with interests in Registered Limited Liability Partnerships (“RLLPs”), or parties with interests in Limited Liability Companies (“LLCs”) attempting to insulate themselves from attribution to file a certification of “non-involvement” with the Commission. LLCs or RLLPs that submit the non-involvement certification are also required to submit a statement certifying that the relevant state authorization statute permits a partner/member to insulate itself in the manner required by our criteria.

Federal Communications Commission.
Marlene Dortch,
Secretary.

[FR Doc. 2025-21817 Filed 12-2-25; 8:45 am]

BILLING CODE 6712-01-P